Proclamation 7974 of January 13, 2006

Religious Freedom Day, 2006

By the President of the United States of America

A Proclamation

The right to religious freedom is a foundation of America. On Religious Freedom Day, our Nation celebrates the passage of the 1786 Virginia Statute for Religious Freedom and the protection of religious freedom in the First Amendment to the United States Constitution.

Our Founding Fathers knew the importance of freedom of religion to a stable democracy, and our Constitution protects individuals' rights to worship as they choose. We reject religious discrimination in every form, and we continue our efforts to oppose prejudice and to counter any infringements on religious freedom.

Today, we are also working to advance freedom of religion abroad. The Department of State's Office of International Religious Freedom plays an important role in these efforts, advocating for religious freedom and actively working against religious persecution around the world. In recent years, we have seen important progress, including in Vietnam, Laos, India, Georgia, and the United Arab Emirates, and with the release of many individuals in countries throughout the world who had been imprisoned because of their faith. By helping to secure the religious freedom of people in other countries, we promote the spread of liberty and human dignity.

NOW, THEREFORE, I, GEORGE W. BUSH, President of the United States of America, by virtue of the authority vested in me by the Constitution and laws of the United States, do hereby proclaim January 16, 2006, as Religious Freedom Day. I call on all Americans to reflect on the great blessing of religious liberty, endeavor to preserve this freedom for future generations, and commemorate this day with appropriate events and activities in their schools, places of worship, neighborhoods, and homes.

IN WITNESS WHEREOF, I have hereunto set my hand this thirteenth day of January, in the year of our Lord two thousand six, and of the Independence of the United States of America the two hundred and thirtieth.

B

[FR Doc. 06-553

Filed 1-18-06; 9:23 am]

Billing code 3195-01-P